DEPARTMENT OF HOMELAND SECURITY

Coast Guard

[Docket No. USCG-2025-0097]

Notification of the Removal of Conditions of Entry on Vessels Arriving From the Republic of Djibouti

AGENCY: Coast Guard, DHS.

ACTION: Notice.

SUMMARY: The Coast Guard announces that it is removing the conditions of entry on vessels arriving from the Republic of Djibouti.

DATES: The policy announced in this notice is effective on July 21, 2025.

FOR FURTHER INFORMATION CONTACT: For information about this document call or email J.J. Hudson, Chief, Office of International and Domestic Port Security, United States Coast Guard, telephone 571-607-6445, Juliet.J.Hudson@uscg.mil.

SUPPLEMENTARY INFORMATION:

Background and Purpose

The authority for this notice is 5 U.S.C. 552(a) (“Administrative Procedure Act”), 46 U.S.C. 70110 (“Maritime Transportation Security Act”), and Department of Homeland Security Delegation No. 0170.1(II)(97.f). As delegated, section 70110(a) authorizes the Coast Guard to impose conditions of entry on vessels arriving in U.S. waters from ports that the Coast Guard has not found to maintain effective anti-terrorism measures.

In 2019, the Coast Guard determined that effective anti-terrorism measures were not in place in the ports of Djibouti. Accordingly, conditions of entry were imposed on vessels arriving from Djibouti. Based on recent assessments, the Coast Guard has determined that Djibouti is maintaining effective anti-terrorism measures, and is, accordingly, removing the conditions of entry announced in previously published Notices. With this notice, the current list of countries assessed and not maintaining effective anti-terrorism measures is as follows: Cambodia, Cameroon, Comoros, Cuba, Equatorial Guinea, Federated States of Micronesia, The Gambia, Guinea-Bissau, Iran, Iraq, Libya, Madagascar, Nauru, Nigeria, Sao Tome and Principe, Seychelles, Sudan, Syria, Timor-Leste, Venezuela, Yemen. The current Port Security Advisory is available at: http://www.dco.uscg.mil/Our-Organization/Assistant-Commandant-for-Prevention-Policy-CG-5P/International-Domestic-Port-Assessment/.

Thomas G. Allan Jr.,
Vice Admiral, USCG, Acting Deputy Commandant for Operations.

[FR Doc. 2025-13656 Filed 7-18-25; 8:45 am]

BILLING CODE P